DEPARTMENT OF DEFENSE

Department of the Navy

[Docket ID: USN-2022-HQ-0014]

Submission for OMB Review; Comment Request

AGENCY: Department of the Navy, Department of Defense (DoD).

ACTION: 30-Day information collection notice.

SUMMARY: The DoD has submitted to OMB for clearance the following proposal for collection of information under the provisions of the Paperwork Reduction Act.

DATES: Consideration will be given to all comments received by September 21, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Optimized Fleet Response Plan Phase Variation in Signature and Destructive Behaviors; OMB Control Number 0703-OFRP.

Type of Request: New collection.

Number of Respondents: 585.

Responses per Respondent: 1.

Annual Responses: 585.

Average Burden per Response: 30 minutes.

Annual Burden Hours: 292.5 hours.

Needs and Uses: Navy leaders in the Navy 21st Century Office (OPNAV N17) have engaged with researchers at the Naval Postgraduate School (NPS) through the NPS Naval Research Program to conduct research to investigate if signature and destructive behaviors vary across stages of the Optimized Fleet Response Plan (OFRP). The OFRP is a fleet force model that includes 5 phases: basic, advanced, integrated, sustainment, and maintenance. Ships cycle through the phases to maintain employability and preserve maintenance, modernization, and workup. Anecdotal and observational evidence suggests variation in behaviors across the phases, and, in particular, an uptick in destructive behaviors during the maintenance phase. Congruent with research findings, the Chief of Naval Operations has directed the Navy to create a “Culture of Excellence,” noting that by focusing on positive, signature behaviors, the Navy can build and sustain a lethal force of tough sailors who are ethical and masters of their trade. The Culture of Excellence Campaign's Perform to Plan effort will empower warfighting capability by fostering psychological, physical, and emotional toughness. To meet this goal, the Navy needs to understand what encourages signature behaviors and reduces destructive behaviors and how these behaviors impact readiness.

The overarching aim of this study is to support the Navy Culture of Excellence Campaign's Performance to Plan effort to encourage signature behaviors and reduce destructive behaviors. The study will answer three questions: What are the rates of signature & destructive behaviors during 3 phases of OFRP? Do rates differ by organizational command (department)? How do signature & destructive behaviors impact readiness?

Affected Public: Individuals or households.

Frequency: One-time.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: August 16, 2022.
Kayyonne T. Marston,
Alternate OSD Federal Register Liaison Officer, Department of Defense.

[FR Doc. 2022-17968 Filed 8-19-22; 8:45 am]

BILLING CODE 5001-06-P